COMMITTEE FOR PURCHASE FROM PEOPLE WHO ARE BLIND OR SEVERELY DISABLED

Procurement List; Proposed Additions and Deletions

AGENCY: Committee for Purchase From People Who Are Blind or Severely Disabled.

ACTION: Proposed additions to and deletions from the Procurement List.

SUMMARY: The Committee is proposing to add service(s) to the Procurement List that will be furnished by nonprofit agencies employing persons who are blind or have other severe disabilities, and deletes product(s) and service(s) previously furnished by such agencies.

DATES: Comments must be received on or before: July 2, 2023.

ADDRESSES: Committee for Purchase From People Who Are Blind or Severely Disabled, 355 E Street, Suite 325, Washington, DC 20024.

FOR FURTHER INFORMATION CONTACT: For further information or to submit comments contact: Michael R. Jurkowski, Telephone: (703) 785-6404, or email CMTEFedReg@AbilityOne.gov.

SUPPLEMENTARY INFORMATION: This notice is published pursuant to 41 U.S.C. 8503 (a)(2) and 41 CFR 51-2.3. Its purpose is to provide interested persons an opportunity to submit comments on the proposed actions.

Additions

If the Committee approves the proposed additions, the entities of the Federal Government identified in this notice will be required to procure the service(s) listed below from nonprofit agencies employing persons who are blind or have other severe disabilities.

The following service(s) are proposed for addition to the Procurement List for production by the nonprofit agencies listed:

Service(s)

Service Type: Grounds Maintenance

Mandatory for: US Air Force, Robins Air Force Base, Robins AFB, GA

Designated Source of Supply: Mavagi Enterprises, Inc., San Antonio, TX

Contracting Activity: DEPT OF THE AIR FORCE, FA8501 AFSC PZIO

Service Type: Janitorial Service

Mandatory for: FAA, Albuquerque Air Route Traffic Control Center, Albuquerque, NM

Designated Source of Supply: Adelante Development Center, Inc., Albuquerque, NM

Contracting Activity: Federal Aviation Administration, 697DCK Regional Acquisitions SVCS

Deletions

The following product(s) and service(s) are proposed for deletion from the Procurement List:

Product(s)

NSN(s)—Product Name(s):

7125-01-667-1400—Cabinet, Storage, Blow-Molded, 66″, Platinum

7125-01-667-1401—Cabinet, Storage, Blow-Molded, 66″, Black

7125-01-667-1402—Cabinet, Storage, Blow-Molded, 46″, Black

7125-01-667-1403—Cabinet, Storage, Blow-Molded, 46″, Platinum

7125-01-667-1404—Cabinet, Storage, Blow-Molded, 72″, Black

7125-01-667-1407—Cabinet, Storage, Blow-Molded, 72″, Platinum

Designated Source of Supply: MidWest Enterprises for the Blind, Inc., Kalamazoo, MI

Contracting Activity: GSA/FAS FURNITURE SYSTEMS MGT DIV, PHILADELPHIA, PA

NSN(s)—Product Name(s):

8465-00-258-2432—Liner, Field Pack, Green, 50″ x 30″

8465-00-935-6857—Liner, Field Pack, Green, 21.50″ x 17.75″

8465-00-935-6858—Liner, Field Pack, Green, 39″ x 27″

Designated Source of Supply: Casco Area Workshop, Inc., Harrisonville, MO

Contracting Activity: DLA TROOP SUPPORT, PHILADELPHIA, PA

NSN(s)—Product Name(s):

1025-01-232-6822—Sponge, Chamber Swabbing

Designated Source of Supply: New Horizons Rehabilitation Services, Inc., Auburn Hills, MI

Contracting Activity: DLA LAND AND MARITIME, COLUMBUS, OH

Service(s)

Service Type: Janitorial Service

Mandatory for: U.S. Navy, NEX Food Court, 1560 Mall Drive, Norfolk Naval Air Station, Norfolk, VA

Designated Source of Supply: Sara's Mentoring Center, Inc., Virginia Beach, VA

Contracting Activity: DEPT OF THE NAVY, Navy Exchange Service Command

Michael R. Jurkowski,
Acting Director, Business Operations.

[FR Doc. 2023-11736 Filed 6-1-23; 8:45 am]

BILLING CODE 6353-01-P